DEPARTMENT OF ENERGY

Federal Energy Regulatory Commission

[Project No. 349-173]

Martin Dam Hydroelectric Project; Notice of Availability of the Draft Environmental Impact Statement for the Martin Dam Hydroelectric Project and Intention To Hold Public Meetings

In accordance with the National Environmental Policy Act of 1969 and the Federal Energy Regulatory Commission's (Commission) regulations, 18 CFR part 380 (Order No. 486, 52 FR 47897), the Office of Energy Projects has reviewed the application for license for the Martin Dam Hydroelectric Project (FERC No. 349), located on the Tallapoosa River in Tallapoosa, Coosa, and Elmore Counties, Alabama, and has prepared a Draft Environmental Impact Statement (draft EIS) for the project. The project occupies 1.39 acres of federal lands administered by the U.S. Bureau of Land Management.

The draft EIS contains staff evaluations of the applicant's proposal and the alternatives for relicensing the Martin Dam Hydroelectric Project. The draft EIS documents the views of governmental agencies, non-governmental organizations, affected Indian tribes, the public, the license applicant, and Commission staff.

A copy of the draft EIS is available for review in the Commission's Public Reference Branch, Room 2A, located at 888 First Street NE., Washington, DC 20426. The draft EIS also may be viewed on the Commission's Web site at http://www.ferc.gov, using the “e-Library” link. Enter the docket number, excluding the last three digits, to access the document. For assistance, contact FERC Online Support at FERCOnlineSupport@ferc.gov or toll-free at (866)208-3676, or for TTY, contact (202)502-8659.

You may also register online at http://www.ferc.gov/docs-filing/esubscription.asp to be notified via email of new filings and issuances related to this or other pending projects. For assistance, contact FERC Online Support.

On February 8, 2012, the Commission published notice of application accepted for filing, soliciting motions to intervene and protests, ready for environmental analysis, and soliciting comments, recommendations, preliminary terms and conditions, and preliminary fishway prescriptions. The notice also established a procedural schedule for issuing the draft EIS, filing comments on the draft EIS, the deadline for filing modified terms and conditions, and issuing the final EIS. Because of the complexity of the issues, the procedural schedule has been revised to allow for later issuance of the draft EIS, pursuant to section 5.25(a) of the Commission's regulations.

All comments must be filed by Tuesday, August 13, 2013, and should reference Project No. 349-173. Comments may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and five copies to: Kimberly D. Bose, Secretary, Federal Energy Regulatory Commission, 888 First Street NE., Washington, DC 20426.

Anyone may intervene in this proceeding based on this draft EIS (18 CFR 380.10). You must file your request to intervene as specified above.¹ You do not need intervenor status to have your comments considered.

¹ Interventions may also be filed electronically via the Internet in lieu of paper. See the previous discussion on filing comments electronically.

In addition to or in lieu of sending written comments, you may attend a public meeting that Commission staff will hold for the purpose of receiving comments on the draft EIS. At this meeting, resource agency personnel and other interested persons will have the opportunity to provide oral and written comments and recommendations regarding the draft EIS. The meeting will be recorded by a court reporter, and all statements (verbal and written) will become part of the Commission's public record for the project. A notice detailing the exact date, time, and location of the public meetings will be forthcoming. The meeting will also be posted on the Commission's calendar located at http://www.ferc.gov/EventCalendar/EventsList.aspx along with other related information.

For further information, please contact Stephen Bowler at (202) 502-6861 or at stephen.bowler@ferc.gov.

Dated: June 6, 2013.
Kimberly D. Bose,
Secretary.

[FR Doc. 2013-14012 Filed 6-12-13; 8:45 am]

BILLING CODE 6717-01-P